DEPARTMENT OF THE INTERIOR

Bureau of Land Management

[LLWY910000 L16100000 XX0000]

Notice of Public Meeting; Wyoming Resource Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) Wyoming Resource Advisory Council (RAC) will meet as indicated below.

DATES: The meeting is scheduled for Wednesday, Sept. 24, 2014 (1 to 5:30 p.m.), Thursday, Sept. 25, 2014 (8 a.m. to 5:30 p.m.), and Friday, Sept. 26, 2014 (8 a.m. to noon).

ADDRESSES: The meeting will be held at the National Historic Trails Interpretive Center (NHTIC), 1501 N. Poplar Street, Casper, Wyoming. The Sept. 25 meeting will begin with a site visit that will leave from the Quality Inn and Suites, 821 North Poplar Street.

FOR FURTHER INFORMATON CONTACT: Christian Venhuizen, Wyoming Resource Advisory Council Coordinator, Wyoming State Office, 5353 Yellowstone Road, Cheyenne, WY 82009; telephone 307-775-6103; email cvenhuizen@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This 10-member RAC advises the Secretary of the Interior on a variety of management issues associated with public land management in Wyoming. Planned agenda topics include discussions on regional mitigation, defining pre-decisional information and cooperating agency responsibilities; implementation of the Lander Resource Management Plan Record of Decision and follow-up to previous RAC meetings. On Wednesday, Sept. 24, the meeting will begin at 1 p.m., at the NHTIC conference room. On Thursday, Sept. 25, there will be site visits of Land and Water Conservation Fund projects and acquisitions, historic trails, and the Pathfinder Ranch (Sweetwater River Conservancy Habitat Conservation Bank). The public is invited to attend, but must provide their own transportation. The site visit will leave from the Quality Inn and Suites Hotel at 8 a.m. The meeting will resume at the NHTIC conference room at noon with a working lunch. Food will not be provided for the public. On Friday, Sept. 26, the meeting will begin at 8 a.m. at the NHTIC conference room. All RAC meetings are open to the public with time allocated for hearing public comments. On Friday, Sept. 26, there will be a public comment period beginning at 8 a.m. The public may also submit written comments to the RAC by emailing cvenhuizen@blm.gov or by submitting them at the meeting location to the RAC coordinator. Depending on the number of persons wishing to comment and time available, the time for individual oral comments may be limited. If there are no members of the public interested in speaking, the meeting will move promptly to the next agenda item.

Dated: August 25, 2014.
Nancy Beres,
Associate State Director (acting).

[FR Doc. 2014-21182 Filed 9-5-14; 8:45 am]

BILLING CODE 4310-22-P